DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996. It consists of a summary of rules appearing in Federal Acquisition Circular (FAC) 2005-03 which amend the FAR. An asterisk (*) next to a rule indicates that a regulatory flexibility analysis has been prepared. Interested parties may obtain further information regarding these rules by referring to FAC 2005-03 which precedes this document. These documents are also available via the Internet at http://www.acqnet.gov/far.

FOR FURTHER INFORMATION CONTACT: Laurieann Duarte, FAR Secretariat, (202) 501-4755. For clarification of content, contact the analyst whose name appears in the table below.

List of Rules in FAC 2005-03
Item | Subject | FAR case | Analyst
I* | Purchases From Federal Prison Industries—Requirement for Market Research (Interim) | 2003-023 | Nelson.
II | Section 508 Micropurchase Exemption | 2004-020 | Nelson.
III | Technical Amendments

Item I—Purchases From Federal Prison Industries—Requirement for Market Research (FAR Case 2003-023) (Interim)

This interim rule updates and clarifies procedures for purchase of items from Federal Prison Industries (FPI). The changes include—

• Establishment of a permanent requirement for market research and a comparability determination before purchasing an item of supply listed in the FPI Schedule. For civilian agencies, this requirement previously applied only to purchases made using fiscal year 2004 appropriated funds. Section 637 of Division H of the Consolidated Appropriations Act, 2005, made this requirement permanent for all Federal agencies.

• Clarification that, if a solicitation is available through the Governmentwide point of entry (FedBizOpps), it is not necessary to provide a separate copy of the solicitation to FPI.

• Clarification that, if an agency determines that an FPI item provides the best value to the Government as a result of FPI's response to a competitive solicitation, the agency must purchase the item from FPI using the ordering procedures at FPI's website.

Item II—Section 508 Micropurchase Exemption (FAR Case 2004-020)

The interim rule published on October 5, 2004, is converted to a final rule without change. This rule extends the Electronic and Information Technology (Section 508) micropurchase exception to April 1, 2005. This rule is of special interest to contracting officers and other individuals designated in accordance with FAR 1.603-3. All micropurchases made on and after April 1, 2005, must comply with the requirements of Section 508. Micropurchases are subject to the same exemption provision as larger dollar buys, as articulated in FAR 39.204.

Item III—Technical Amendments

Editorial changes are made at FAR 52.212-5, 52.213-4, 52.219-18, and 52.225-13, in order to update references.

Dated: April 1, 2005.
Rodney P. Lantier,
Director, Contract Policy Division, General Services Administration.

[FR Doc. 05-6868 Filed 4-8-05; 8:45 am]

BILLING CODE 6820-EP-S